DEPARTMENT OF COMMERCE

International Trade Administration

Notice of Scope Rulings

AGENCY: Enforcement and Compliance, International Trade Administration, Department of Commerce.

SUMMARY: The U.S. Department of Commerce (Commerce) hereby publishes a list of scope rulings and circumvention determinations made during the period January 1, 2024, through March 31, 2024. We intend to publish future lists after the close of the next calendar quarter.

DATES: Applicable August 5, 2024.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce regulations provide that it will publish in the Federal Register a list of scope rulings on a quarterly basis.¹ Our most recent notification of scope rulings published on June 4, 2024.² This current notice covers all scope rulings made by Enforcement and Compliance between January 1, 2024, and March 31, 2024.

¹ See 19 CFR 351.225(o).

² See Notice of Scope Rulings, 89 FR 47896 (June 4, 2024).

Scope Rulings Made January 1, 2024, Through March 31, 2024

Mexico

A-201-805: Certain Circular Welded Non-Alloy Steel Pipe From Mexico

Requestor: Productos Laminados de Monterrey S.A. de C.V and PLM Steel Tubes LLC. Six types of circular welded non-alloy steel pipe that are exported from the United States to Mexico for further processing before re-entry into the United States, produced by Productos Laminados de Monterrey S.A. de C.V and PLM Steel Tubes LLC, are not covered the scope of the antidumping duty order on certain circular welded non-alloy steel pipe from Mexico because the country of origin is not Mexico: March 12, 2024.

People's Republic of China (China)

A-570-910 and C-570-911: Circular Welded Carbon Quality Steel Pipe From China

Requestor: NEXTracker LLC. Fifteen models of torque tubes are not covered by the scope of the antidumping and countervailing duty orders on circular welded carbon quality steel pipe from China because they are mechanical tubes which are excluded from the scope: January 8, 2024.

A-570-135 and C-570-136: Certain Chassis and Subassemblies Thereof From China

Requestor: Pitts Enterprises, Inc. dba Dorsey Intermodal. Finished chassis from Vietnam containing Chinese-origin subassemblies are covered by the antidumping duty and countervailing duty orders on certain chassis and subassemblies thereof from China. Subassemblies from China finished or unfinished and whether assembled or unassembled are subject covered by the orders: January 10, 2024.

A-570-890: Woodend Bedroom Furniture From China

Requestor: Zinus, Inc. Seven models of beds are not covered by the scope of the antidumping duty order on wooden bedroom furniture from China because they are not made substantially of wood products: January 11, 2024.

A-570-106 and C-570-107: Wooden Cabinets and Vanities and Components Thereof From China

Requestor: Nanjing Kaylang Co., Ltd. Cabinets and vanities made from phragmites are covered by the antidumping and countervailing duty orders on wooden cabinets and vanities and components thereof from China because the scope clearly includes “engineered wood products” and we determine phragmite particle board to be an engineered wood product: January 12, 2024.

A-570-084 and C-570-085: Certain Quartz Surface Products From China

Requestor: Vanguard Trading Company, LLC (VTC). Fritech, a waste mineral-based surface product, is predominantly made of silica and, therefore, within the scope of the AD and CVD orders. Quartz surface products consist of slabs and other surfaces created from a mixture of materials that includes predominately silica (e.g., quartz, quartz powder, cristobalite) as well as a resin binder (e.g., an unsaturated polyester). The scope of the orders only includes products where the silica content is greater than any other single material by actual weight. While the scope language does not explicitly address waste mineral-based surface product, synthetic stone surfaces that are primarily silica by actual weight are explicitly covered. Accordingly, for purposes of our analysis in this case, we examined whether fritech is predominantly silica or predominately composed of something else. Based on our analysis, and taking into account lab reports and VTC's patent information, we find fritech to be predominantly silica and, therefore, subject to the scope of the orders: January 25, 2024.

A-570-981 and C-570-982: Utility Scale Wind Towers From China

Requestor: Orsted A/S, Orsted North America Inc. The sources enumerated in 19 CFR 351.225(k)(1) demonstrate that monopiles, i.e., steel cylinders that serve as a foundation for offshore wind turbines, are not covered by the scope of the antidumping duty and countervailing duty orders on utility scale wind towers from China: February 6, 2024.

A-570-881: Malleable Iron Pipe Fittings From China

Requestor: JL International, Inc. Certain types of electrical conduit fittings (electrical conduit bodies, electrical conduit nipples, and electrical conduit couplings and connectors) are not covered by the scope of the antidumping duty order on certain malleable iron pipe fittings from China because they are designed and manufactured to conform to different industry codes and standards than malleable iron pipe fittings, and are not suitable for use in oil, gas, or sprinkler applications. This final scope ruling is applicable on a country-wide basis, regardless of foreign producer, exporter, or importer: February 8, 2024.

A-570-082 and C-570-083: Certain Steel Wheels From China

Requestor: Asia Wheel Co., Ltd. Asia Wheel's steel truck wheels are not covered by the scope of the antidumping duty and countervailing duty orders on certain steel wheels from China because the wheels themselves, as well as their primary rim and disc component parts, are all produced in Thailand: February 9, 2024.

A-570-831: Fresh Garlic From China

Requestor: Export Packers Company Limited. Export Packers IQF cooked garlic cloves are subject to the scope of the antidumping duty order on fresh garlic from China because the garlic cloves: (1) have certain physical characteristics that differ from the subject merchandise but are not considered “prepared” by “heat processing”; (2) have similar expectations of use as subject merchandise due to the marketing and advertising of the product; (3) are used as a food or seasoning which is the same use as subject merchandise; (4) are sold to retailers through the same channel of trade (i.e., other seasonings, flavorings, and food ingredients) as the subject merchandise; and (5) are marketed to retailers in the same manner as subject merchandise: February 21, 2024.

A-570-831: Fresh Garlic From China

Requestor: Roland Foods, LLC. Roland Foods' whole garlic cloves (in brine) are not covered by the scope of the antidumping duty order on fresh garlic from China because they are preserved by the addition of other ingredients. Moreover, as a second, alternative basis, Roland Foods' whole garlic cloves in brine are not subject to the order because they are mechanically harvested and not used as fresh produce: March 1, 2024.

A-570-073 and C-570-074: Common Alloy Aluminum Sheet From China

Requestor: Century Metals & Supplies, Inc. Aluminum coil produced from 8011 alloy aluminum, having a thickness of 6.3 millimeters or less, but greater than 0.2 millimeters, is not covered by the scope of the antidumping duty and countervailing duty orders on common alloy aluminum sheet from China because it is not produced from an in-scope aluminum alloy series: March 12, 2024.

A-570-018 and C-570-019: Boltless Steel Shelving Units Prepackaged for Sale From China

Requestor: Fasteners for Retail, Inc. dba Siffron. Certain headphone/speaker retail display shelves are not covered by the scope of the antidumping duty and countervailing duty orders on boltless steel shelving units prepackaged for sale from China because Siffron's display shelves are not shelving units, nor are they prepackaged for sale with upright and horizontal supports or assembled in a boltless fashion: March 29, 2024.

Spain

A-469-823: Utility Scale Wind Towers From Spain

Requestor: Orsted A/S, Orsted North America Inc. The sources enumerated in 19 CFR 351.225(k)(1) demonstrate that monopiles, i.e., steel cylinders that serve as a foundation for offshore wind turbines, are not covered by the scope of the antidumping duty and countervailing duty orders on utility scale wind towers from Spain: February 6, 2024.

Taiwan

A-583-869: Passenger Vehicle and Light Truck Tires From Taiwan

Requestor: Cheng Shin Rubber Ind. Co. Ltd. Certain light-truck spare tires models, identified under part code TG00000100, produced by Cheng Shin Rubber Ind. Co. Ltd., and imported by its U.S. affiliate Cheng Shin Rubber USA Inc., are not covered by the scope of the antidumping duty order on passenger vehicle and light truck tires from Taiwan because the product falls under the fifth exclusion identified in the scope of the order: March 7, 2024.

Notification to Interested Parties

Interested parties are invited to comment on the completeness of this list of completed scope inquiries and scope/circumvention inquiry combinations made during the period January 1, 2024, through March 31, 2024. Any comments should be submitted to Scot Fullerton, Acting Deputy Assistant Secretary for AD/CVD Operations, Enforcement and Compliance, International Trade Administration, via email to CommerceCLU@trade.gov.

This notice is published in accordance with 19 CFR 351.225(o).

Dated: July 30, 2024.
Scot Fullerton,
Acting Deputy Assistant Secretary for Antidumping and Countervailing Duty Operations.

[FR Doc. 2024-17167 Filed 8-2-24; 8:45 am]

BILLING CODE 3510-DS-P